DEPARTMENT OF COMMERCE

International Trade Administration

[A-570-868]

Folding Metal Tables and Chairs From the People's Republic of China: Continuation of Antidumping Duty Order

AGENCY: Import Administration, International Trade Administration, Department of Commerce.

SUMMARY: As a result of the determinations by the Department of Commerce (“Department”) and the International Trade Commission (“ITC”) that revocation of the existing antidumping duty order on folding metal tables and chairs from the People's Republic of China (“PRC”) would likely lead to continuation or recurrence of dumping and material injury to an industry in the United States, the Department is publishing this notice of continuation of the antidumping duty (“AD”) order.

DATES: Effective Dates: November 6, 2007.

FOR FURTHER INFORMATION CONTACT: Charles Riggle or Matthew Quigley, AD/CVD Operations, Import Administration, International Trade Administration, U.S. Department of Commerce, 14th Street and Constitution Avenue, NW., Washington, DC 20230; telephone: 202-482-0650 202-482-4551, respectively.

SUPPLEMENTARY INFORMATION:

Background

On May 1, 2007, the Department published the notice of initiation of the sunset review of the antidumping duty order on folding metal tables and chairs from the PRC pursuant to section 751(c) of the Tariff Act of 1930, as amended (“the Act”). See Initiation of Five-Year (“Sunset”) Reviews, 72 FR 23799 (May 1, 2007) (“Initiation Notice”); see also, Antidumping Duty Order: Folding Metal Tables and Chairs From the People's Republic of China, 67 FR 43277 (June 27, 2002) (“Order”). As a result of its review, the Department found that revocation of the AD order would likely lead to continuation or recurrence of dumping and notified the ITC of the margins likely to prevail were the order revoked. See Folding Metal Tables and Chairs from the People's Republic of China: Notice of Final Results of Expedited Sunset Review of Antidumping Duty Order, 72 FR 51409 (September 7, 2007). On September 20, 2007, the ITC determined, pursuant to section 751(c) of the Act, that revocation of the AD order on folding metal tables and chairs from the PRC would likely lead to continuation or recurrence of material injury to an industry in the United States within a reasonably foreseeable time. See Folding Metal Tables and Chairs from China, 72 FR 60389 (October 24, 2007), and USITC Publication 3952 Inv. No. 731-TA-932 (Review) (September 2007).

Scope of the Order

The products covered by this order consist of assembled and unassembled folding tables and folding chairs made primarily or exclusively from steel or other metal, as described below:

(1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table.

Specifically excluded from the scope of folding metal tables are the following:

Lawn furniture;

Trays commonly referred to as “TV trays”;

Side tables;

Child-sized tables;

Portable counter sets consisting of rectangular tables 36″ high and matching stools; and Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

• Folding metal chairs with a wooden back or seat, or both;

• Lawn furniture;

• Stools;

• Chairs with arms; and

• Child-sized chairs.

The subject merchandise is currently classifiable under subheadings 9401.71.0010, 9401.71.0030, 9401.79.0045, 9401.79.0050, 9403.20.0015, 9403.20.0030, 9403.70.8010, 9403.70.8020, and 9403.70.8030 of the Harmonized Tariff Schedule of the United States (“HTSUS”).¹ Although the HTSUS subheadings are provided for convenience and U.S. Customs and Border Protection purposes, the Department's written description of the merchandise is dispositive.

¹ Originally the scope included 9403.20.0010, but effective July 1, 2003, 9403.20.0010 (metal household furniture) was eliminated from the HTS code. 9403.20.0011 (ironing boards) and 9403.20.0015 (other) were added in its place. 9403.20.0015 contains merchandise in 9403.20.0010 except for ironing boards.

On January 13, 2003, the Department issued a scope ruling determining that “Poly-Fold” chairs consisting of steel frames (20-gauge steel) with polypropylene seats and backs, zinc-plated rivets coated with an epoxy polyester powder coating, three drainage holes in the seat, specially designed back leg cross bar, four oversized leg stoppers with drainage holes, and a frame with hybrid coating are within the scope of the antidumping duty order.²

² See “Final Scope Ruling on Whether RPA International Pty. Ltd.'s Poly-Fold Chairs Are Excluded from the Scope of the Antidumping Duty Order on Folding Metal Tables and Chairs from the People's Republic of China” (January 13, 2003).

On May 5, 2003, the Department issued a scope ruling with respect to the “Complete Office-To-Go” set, which consists of a single chair and a table with a monitor stand and legs that fold as a set. The Department ruled that the chair component is within the scope of the antidumping duty order because the chair component is identical to the chairs described in the order, but the Department ruled that table component is outside the scope of the AD order because it has legs that fold in sets.³

³ See “Final Scope Ruling on Whether Staples, The Office Superstore, Incorporated's ‘Complete Office-To-Go’ is Excluded from the Scope of the Antidumping Duty Order on Folding Metal Tables and Chairs from the People's Republic of China” (May 5, 2003).

On September 7, 2004, the Department issued a scope ruling determining that folding tables with tops made of blow-molded plastic and frames made of steel are within the scope of the AD order.⁴

⁴ See “Final Scope Ruling on Whether Lifetime Tables 4600 and 4606 Are Excluded from the Scope of the Antidumping Duty Order on Folding Metal Tables and Chairs from the People's Republic of China” (September 7, 2004).

On July 13, 2005, the Department issued a scope ruling determining that folding metal chairs, with wooden seats that have been padded with foam and covered with fabric or polyvinyl chloride and attached to a tubular steel seat frame with screws, are within the scope of the AD order.⁵

⁵ See “Final Scope Ruling of the Antidumping Duty Order on Folding Metal Tables and Chairs from the People's Republic of China (A-570-868); Korhani of America, Inc.” (July 13, 2005).

Also on July 13, 2005, the Department issued a scope ruling determining that “butterfly” chairs are outside the scope of the AD order. Butterfly chairs are described as consisting of a collapsible metal rod frame and a cover, such that when the chair frame is spread open, the pockets of the cover are slipped over the upper ends of the frame and the cover provides both the seating surface and back of the chair. The frame consists of eight s-shaped pieces (with the ends offset at almost a 90-degree angle) made from metal rod that are connected by hinges. The frame is collapsed by moving the four legs inward until they meet in the center, similar to the folding mechanism of a pocket umbrella. Although butterfly chairs, as described by the requester have supports made of steel or other metal, they do not have cross-braces affixed to the front and/or rear legs. The seat and back is one piece of cloth, which also serves as the carrying bag for the chair frame when not in use, and is therefore not affixed to the frame with screws, rivets, welds or any other type of fastener.⁶

⁶ See “Final Scope Ruling of the Antidumping Duty Order on Folding Metal Tables and Chairs from the People's Republic of China (A-570-868); Spencer Gifts, LLC” (July 13, 2005).

On May 1, 2006, the Department issued a scope ruling determining that the “moon chair” was outside the scope of the antidumping duty order because it collapses rather than folds as a chair subject to the order would fold, and it does not have a back pad or seat pad commonly found in folding chairs. Moon chairs are described as containing circular, fabric-padded, concave cushions that envelope the user at approximately a 105-degree reclining angle. The fabric cushion is ringed and supported by two curved 16-mm steel tubes. The cushion is attached to this ring by nylon fabric. The cushion is supported by a 16-mm steel tube four-sided rectangular cross-brace mechanism that constitutes the moon chair's legs. This mechanism supports and attaches to the encircling tubing and enables the moon chair to be folded. To fold the chair, the user pulls on a fabric handle in the center of the seat cushion of the chair.⁷

⁷ See “Final Scope Ruling of the Antidumping Duty Order on Folding Metal Tables and Chairs from the People's Republic of China (A-570-868); Mac Industries (Shanghai) Co., Ltd., Jiaxing Yinmao International Trading Company, Ltd and Fujian Zenithen Consumer Products Company Ltd.” (May 1, 2005).

Continuation of Order

As a result of the determinations by the Department and the ITC that revocation of the AD order on folding metal tables and chairs from the PRC would likely lead to continuation or recurrence of dumping and material injury to an industry in the United States, pursuant to section 751(d)(2) of the Act, the Department hereby orders the continuation of the AD order on folding metal tables and chairs from the PRC. U.S. Customs and Border Protection will continue to collect antidumping duty cash deposits at the rates in effect at the time of entry for all imports of subject merchandise. This review covers imports from all manufacturers and exporters of folding metal tables and chairs from the PRC.

The effective date of continuation of this AD order will be the date of publication in the Federal Register of this Continuation Notice. Pursuant to section 751(c)(2) of the Act, the Department intends to initiate the next five-year review of this order not later than September 2012.

This five-year or “sunset” review and notice are in accordance with section 751(c) of the Act and published pursuant to section 777(i)(1) of the Act.

Dated: October 31, 2007.
Stephen J. Claeys,
Acting Assistant Secretary for Import Administration.

[FR Doc. E7-21798 Filed 11-5-07; 8:45 am]

BILLING CODE 3510-DS-P